DEPARTMENT OF EDUCATION

[CFDA No. 84.120A]

Office of Postsecondary Education; Minority Science and Engineering Improvement Program; Notice Inviting Applications for New Awards for Fiscal Year (FY) 2003

Purpose of Program: The Minority Science and Engineering Improvement Program (MSEIP) is designed to effect long-range improvement in science and engineering education at predominantly minority institutions and to increase the flow of underrepresented ethnic minorities, particularly minority women, into scientific and technological careers.

Eligibility for Grants: Under section 361 of Title III of the Higher Education Act of 1965, as amended (HEA), the following entities are eligible to receive a grant under MSEIP:

(1) Public and private nonprofit institutions of higher education that:

(A) Award baccalaureate degrees; and

(B) Are minority institutions;

(2) Public or private nonprofit institutions of higher education that:

(A) Award associate degrees; and

(B) Are minority institutions that:

(i) Have a curriculum that includes science or engineering subjects; and

(ii) Enter into a partnership with public or private nonprofit institutions of higher education that award baccalaureate degrees in science and engineering;

(3) Nonprofit science-oriented organizations, professional scientific societies, and institutions of higher education that award baccalaureate degrees, that:

(A) Provide a needed service to a group of minority institutions; or

(B) Provide in-service training for project directors, scientists, and engineers from minority institutions; or

(4) Consortia of organizations that provide needed services to one or more minority institutions, the membership of which may include:

(A) Institutions of higher education that have a curriculum in science or engineering;

(B) Institutions of higher education that have a graduate or professional program in science or engineering;

(C) Research laboratories of, or under contract with, the Department of Energy;

(D) Private organizations that have science or engineering facilities; or

(E) Quasi-governmental entities that have a significant scientific or engineering mission.

Eligible Applicants: (a) For institutional, design, and special projects described in 34 CFR 637.12, 637.13 and 637.14, public and private nonprofit minority institutions of higher education as defined in sections 361(1) and (2) of the HEA.

(b) For special projects described in 34 CFR 637.14(b) and (c), nonprofit science-oriented organizations, professional scientific societies, institutions of higher education, and consortia of organizations as defined in sections 361(3) and (4) of the HEA.

(c) For cooperative projects described in 34 CFR 637.15, groups of nonprofit accredited colleges and universities whose primary fiscal agent is an eligible minority institution as defined in 34 CFR 637.4(b).

Note: A minority institution is defined in 34 CFR 637.4(b) as an accredited college or university whose enrollment of a single minority group or combination of minority groups exceeds 50 percent of the total enrollment.

Applications Available: January 31, 2003.

Deadline for Transmittal of Applications: March 17, 2003.

Deadline for Intergovernmental Review: May 19, 2003.

Estimated Available Funds: The Administration has requested $8,500,000 for this program for FY 2003. The actual level of funding, if any, depends on final congressional action. However, we are inviting applications to allow enough time to complete the grant process if Congress appropriates funds for this program.

Estimated Range of Awards: $19,000-$500,000.

Estimated Average Size of Awards

Institutional Projects

Estimated Range of Awards: $100,000-$300,000.

Estimated Average Size of Awards: $125,851.

Estimated Number of Awards: 24.

Design Projects

Estimated Range of Awards: $19,000-$20,000.

Estimated Average Size of Awards: $19,500.

Estimated Number of Awards: 2.

Special Projects

Estimated Range of Awards: $20,000-$150,000.

Estimated Average Size of Awards: $34,622.

Estimated Number of Awards: 12.

Cooperative Projects

Estimated Range of Awards: $100,00-$500,000.

Estimated Average Size of Awards: $251,000.

Estimated Number of Awards: 3.

Estimated Total Number of Awards: 41.

Note: The Department is not bound by any estimates in this notice. Applicants should periodically check MSEIP's Web site for further information on this program. The address is: http://www.ed.gov/offices/OPE/HEP/idues/msi.html

Project Period: Up to 36 months.

Applicable Regulations: (a) The Education Department General Administrative Regulations (EDGAR) in 34 CFR parts 74, 75, 77, 79, 82, 85, 86, 97, 98, and 99; and

(b) the regulations for this program in 34 CFR part 637.

Note 1: The regulations in 34 CFR part 86 apply to institutions of higher education only.

Note 2: The regulations in 34 CFR part 79 apply to all applicants except federally recognized Indian tribes.

Applicability of Executive Order 13202: Applicants that apply for construction funds under these programs must comply with Executive Order 13202, signed by President Bush on February 17, 2001 and amended on April 6, 2001. This Executive Order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive Order does not prohibit contractors or subcontractors from voluntarily entering into these agreements.

Projects funded under this program that include construction activity will be provided a copy of this Executive Order and will be asked to certify that they will adhere to it.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The MSEIP, CFDA 84.120A is one of the programs included in the pilot project. If you are an applicant under the MSEIP, you may submit your application to us in either electronic or paper format.

The pilot project involves the use of the Electronic Grant Application System (e-Application) portion of the Grant Administration and Payment System (GAPS). Users of e-Application will be entering data on-line while completing their applications. You may not e-mail a copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance under MSEIP (OMB No. 1840-0109), Project Summary page, Budget Information—Non-Construction Programs (ED 524), and all necessary assurances and certifications.

• After you electronically submit your application, you will receive an automatic acknowledgement, which will include a PR/Award number (an identifying number unique to your application).

• Within three working days of submitting your electronic application, fax a signed copy of the Application for Federal Assistance under MSEIP (OMB No. 1840-0109) to the Application Control Center after following these steps:

(1) Print the Application for Federal Assistance under MSEIP (OMB No. 1840-0109) from the e-Application system.

(2) The institution's Authorizing Representative must sign this form.

(3) Place the PR/Award number in the upper right hand corner of the hard copy signature page of the Application for Federal Assistance under MSEIP (OMB No. 1840-0109).

(4) Fax the Application for Federal Assistance under MSEIP (OMB No. 1840-0109) to the Application Control Center at (202) 260-1349.

• We may request that you give us original signatures on all other forms at a later date.

• Closing Date Extension in Case of System Unavailability: If you elect to participate in the e-Application pilot for the MSEIP and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under FOR FURTHER INFORMATION CONTACT or (2) the e-GRANTS help desk at 1-888-336-8930.

You may access the electronic grant application for MSEIP at http://e-grants.ed.gov.

For Applications and Further Information Contact: Kenneth Waters, Deborah Newkirk or Sophia McArdle, Institutional Development and Undergraduate Education Service, U.S. Department of Education, 1990 K Street, NW., 6th Floor, Washington, DC 20006-8517. Telephone: Mr. Waters (202) 502-7586, Ms. Newkirk (202) 502-7591, Dr. McArdle (202) 219-7078. FAX: (202) 502-7861, or via Internet: ken.waters@ed.gov, deborah.newkirk@ed.gov, sophia.mcArdle@ed.gov.

If you use a telecommunications device for the deaf (TDD), you may call the Federal Information Relay Service (FIRS) at 1-800-877-8339.

Individuals with disabilities may obtain this document in an alternative format (e.g., Braille, large print, audiotape, or computer diskette) on request to the program contact persons listed under For Applications and Further Information Contact.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 1067-1067k.

Dated: January 23, 2003.
Sally L. Stroup,
Assistant Secretary, Office of Postsecondary Education.

[FR Doc. 03-2003 Filed 1-28-03; 8:45 am]

BILLING CODE 4000-01-P